ENVIRONMENTAL PROTECTION AGENCY

[FRL OP-OFA-179]

Environmental Impact Statements; Notice of Availability

Responsible Agency: Office of Federal Activities, General Information 202-564-5632 or https://www.epa.gov/nepa.

Weekly receipt of Environmental Impact Statements (EIS)

Filed May 12, 2025 10 a.m. EST Through May 19, 2025 10 a.m. EST

Pursuant to CEQ Guidance on 42 U.S.C. 4332.

Notice

Section 309(a) of the Clean Air Act requires that EPA make public its comments on EISs issued by other Federal agencies. EPA's comment letters on EISs are available at: https://cdxapps.epa.gov/cdx-enepa-II/public/action/eis/search.

EIS No. 20250059, Draft, USAF, CA, Authorizing Changes to the Falcon Launch Program at Vandenberg Space Force Base, California, Comment Period Ends: 07/07/2025, Contact: Hilary Rummel 380-459-2897.

EIS No. 20250060, Final Supplement, FERC, LA, Commonwealth LNG Project, Review Period Ends: 06/23/2025, Contact: Office of External Affairs 866-208-3372.

EIS No. 20250061, Final, BLM, NV, Greenlink North Transmission Project, Review Period Ends: 06/23/2025, Contact: Brian L. Buttazoni 775-861-6491.

EIS No. 20250062, Final Supplement, TVA, TN, Clinch River Nuclear Site Advanced Nuclear Reactor Technology Park Unit 1, Review Period Ends: 06/23/2025, Contact: Carol Freeman 731-641-2021.

EIS No. 20250063, Final Supplement, FTA, MN, METRO Blue Line Light Rail Extension Project, Review Period Ends: 06/23/2025, Contact: Anthony Greep 312-353-1645.

Amended Notice

EIS No. 20250015, Draft, NMFS, FL, WITHDRAWN—Amendment 59 to the Fishery Management Plan for the Snapper-Grouper Fishery of the South Atlantic Region, Contact: Nikhil Mehta 727-551-5098.

Revision to FR Notice Published 01/17/2025; Officially Withdrawn per request of the submitting agency.

Dated: May 19, 2025.
Nancy Abrams,
Associate Director, Office of Federal Activities.

[FR Doc. 2025-09311 Filed 5-22-25; 8:45 am]

BILLING CODE 6560-50-P